INTERNATIONAL TRADE COMMISSION

[Investigation No. 337-TA-467]

Certain Canary Yellow Self-Stick Repositionable Note Products

AGENCY: United States International Trade Commission.

ACTION: Correction notice for the subject investigation.

SUMMARY: On January 7, 2002, the Commission published in the Federal Register (67 FR 757) a notice of investigation in certain canary yellow self-stick repositionable note products under section 337 of the Tariff Act of 1930, as amended (19 U.S.C. 1337). The Commission gives notice of a needed correction to the above mentioned notice. The date “December 17, 2001” in the sentence following the words “Scope of Investigation” should be “December 27, 2001.”

EFFECTIVE DATE: January 7, 2002.

FOR FURTHER INFORMATION CONTACT: Jeffrey R. Whieldon, Esq. (202-205-2580), U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

Issued: January 14, 2002.
By order of the Commission.
Marilyn R. Abbott,
Acting Secretary.

[FR Doc. 02-1302 Filed 1-17-02; 8:45 am]

BILLING CODE 7020-04-P